DEPARTMENT OF HEALTH AND HUMAN SERVICES

Agency for Toxic Substances and Disease Registry

[Program Announcement 03078]

Program To Build Capacity To Conduct Site-Specific Environmental Health Education and Monitoring Activities; Notice of Intent To Fund Single Eligibility Award

A. Purpose

The Agency for Toxic Substances and Disease Registry (ATSDR) announces the intent to fund fiscal year (FY) 2003 funds for a cooperative agreement program to develop educational and environmental programs for communities surrounding the Tar Creek superfund site in Ottawa County, Oklahoma. The Catalog of Federal Domestic Assistance number for this program is 93.161.

B. Eligible Applicant

Assistance will be provided only to the State of Oklahoma Department of Health. The Oklahoma State Health Department was designated as the lead state Superfund Agency Protection agency. The Oklahoma State Department of Health has a long history of providing direct public health services and demonstrating the ability to tract children with elevated blood levels in Ottawa County.

C. Funding

Approximately $166,666 is available in FY 2003 to fund this award. It is expected that the award will begin on or before September 15, 2003, and will be made for a 12-month budget period within a project period of up to three years. Funding estimates may change.

D. Where to Obtain Additional Information

For general comments or questions about this announcement, contact: Technical Information Management, CDC Procurement and Grants Office, 2920 Brandywine Road, Atlanta, GA 30341-4146, Telephone: 770-488-2700.

For technical questions about this program, contact: Richard Sullivan, REHS, Agency for Toxic Substances and Disease Registry, 1600 Clifton Road, NE, MS E-33, Atlanta, GA 30333, Telephone: (404) 498-0521.

Dated: July 1, 2003.
Sandra R. Manning, CGFM,
Director, Procurement and Grants Office, Centers for Disease Control and Prevention.

[FR Doc. 03-17159 Filed 7-7-03; 8:45 am]

BILLING CODE 4163-18-P